DEPARTMENT OF COMMERCE

International Trade Administration

A-570-806

Silicon Metal from the People's Republic of China: Notice of Correction of Continuation of Antidumping Duty Order

AGENCY: Import Administration, International Trade Administration, Department of Commerce.

EFFECTIVE DATE: January 5, 2007.

FOR FURTHER INFORMATION CONTACT: Michael Quigley or Juanita Chen, AD/CVD Operations, Office 9, Import Administration, International Trade Administration, U.S. Department of Commerce, 14th Street and Constitution Avenue, NW, Washington, DC 20230; telephone: (202) 482-4047 or (202) 482-1904, respectively.

CORRECTION:

On December 21, 2006, the Department of Commerce (“Department”) published its continuation of the antidumping duty order on silicon metal from the People's Republic of China. See Silicon Metal from the People's Republic of China: Continuation of Antidumping Duty Order, 71 FR 76636 (December 21, 2006) (“Continuation Notice”). Subsequent to the signature of the Continuation Notice, we identified an inadvertent error in the above-referenced notice.

Specifically, the “Scope of the Order” listed in the Continuation Notice was incorrect. It should read as follows:

Scope of the Order

The merchandise covered by this order is silicon metal containing at least 96.00 percent but less than 99.99 percent silicon by weight. Also covered by this antidumping order is silicon metal containing between 89.00 and 96.00 percent silicon by weight but which contains more aluminum than the silicon metal containing at least 96.00 percent but less than 99.99 percent silicon by weight. Silicon metal is currently provided for under subheadings 2804.69.10 and 2804.69.50 of the Harmonized Tariff Schedule of the United States (“HTSUS”) as a chemical product, but is commonly referred to as a metal. Semiconductor grade silicon (silicon metal containing by weight not less than 99.99 percent silicon and provided for in subheading 2804.61.00 of the HTSUS) is not subject to the order. Although the HTSUS item numbers are provided for convenience and for customs purposes, the written description remains dispositive.

Conclusion

This notice serves solely to correct the scope as it was detailed in the Continuation Notice. The Department's findings in the Continuation Notice remain unchanged. This notice is issued and published in accordance with section 777(i) of the Tariff Act of 1930, as amended.

Dated: December 27, 2006.
Stephen J. Claeys,
Deputy Assistant Secretary for Import Administration.

[FR Doc. E6-22641 Filed 1-4-07; 8:45 am]

BILLING CODE 3510-DS-S